DEPARTMENT OF HEALTH AND HUMAN SERVICES

Centers for Disease Control and Prevention

[60Day-22-22DF; Docket No. CDC-2022-0034]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other federal agencies to take this opportunity to comment on a proposed and/or continuing information collections, as required by the Paperwork Reduction Act of 1995. This notice invites comment on a proposed information collection project titled Assessing the Availability of COVID-19 Testing at U.S. Airports. This project is designed to collect information on the availability of testing for COVID-19 to travelers at U.S. airports.

DATES: Written comments must be received on or before May 13, 2022.

ADDRESSES: You may submit comments, identified by Docket No. CDC-2022-0034, by either of the following methods:

• Federal eRulemaking Portal: regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeff Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

(1) Evaluate whether the proposed collection of information is necessary for the proper performance of the functions of the agency, including whether the information shall have practical utility;

(2) Evaluate the accuracy of the agency's estimate of the burden of the proposed collection of information;

(3) Enhance the quality, utility, and clarity of the information to be collected;

(4) Minimize the burden of the collection of information on respondents, including through the use of automated collection techniques or other forms of information technology (e.g., permitting electronic submissions of responses); and

(5) Assess information collection costs.

Proposed Project

Information Collection for Assessing the Availability of COVID-19 Testing at U.S. Airports—New—National Center for Emerging and Zoonotic Infectious Diseases (NCEZID), Centers for Disease Control and Prevention (CDC).

Background and Brief Description

The Centers for Disease Control and Prevention's (CDC), National Center for Emerging and Zoonotic Infectious Diseases (NCEZID), Division of Global Migration and Quarantine (DGMQ), Quarantine and Border Health Services Branch (QBHSB) requests approval for a new information collection request. This project pertains to collecting information on the availability of testing for COVID-19 to travelers at U.S. airports.

The respondents are airport directors or their designees at 522 airports in the continental United States, the District of Columbia, or any territory or possession of the United States. These airports serve passenger-carrying operations conducted on certified air carriers. This project will initially pilot with a sample of 100 airports and subsequently expand to include the remaining 422 Schedule A passenger-carrying U.S. or territorial airports following the initial rollout, for a total of 522 airports. The 100 sampled airports were selected based on the following criteria: (1) Having more than 1,000 international arrivals in 2019, or (2) having a CDC quarantine station, or if not meeting one of the above criteria, and (3) ranking among the top in domestic arrival passenger volume for 2019 (U.S. Bureau of Transportation). These airports represent 89% of domestic and international travel for 2019.

To achieve DGMQ's mission, QBHSB works with domestic and international programs to protect the U.S. public by preventing importation of infectious disease through travel. Some U.S. airports have facilitated COVID-19 testing locations for departing or arriving domestic and international travelers (passengers and crew). QBHSB seeks to regularly obtain comprehensive and updated information on COVID-19 testing activities occurring at U.S. airports, which allows CDC to monitor trends in testing offered at airports. The information collected in this project will be used primarily to ascertain the scope of testing activities and to eventually provide information to the traveling public on testing availability at U.S. airports. Existing surveillance systems do not collect this type of information, thereby preventing CDC from monitoring airport testing trends and improving program effectiveness, particularly during an emergency response.

Currently, CDC is requesting this data be sent by airport directors or their designees at least twice per year, with monthly reminder emails being sent to encourage response. The consequences of reducing this frequency would be the inability to obtain comprehensive and updated information in a timely manner which could affect program improvement.

CDC requests OMB approval for an estimated 33,060 annual burden hours. There is no cost to the respondents other than their time.

Estimated Annualized Burden Hours
Type of respondent | Form name | Number of respondents | Number of responses per respondent | Average burden per response (in hours) | Total burden (in hours)
Airport directors or managers (All airports) | COVID-19 Airport Testing Planner web form | 522 | 20 | 190/60 | 33,060

Jeffrey M. Zirger,
Lead, Information Collection Review Office, Office of Scientific Integrity, Office of Science, Centers for Disease Control and Prevention.

[FR Doc. 2022-05300 Filed 3-11-22; 8:45 am]

BILLING CODE 4163-18-P